FEDERAL MINE SAFETY AND HEALTH REVIEW COMMISSION

Sunshine Act Notice

April 17, 2019.

TIME AND DATE: 10:00 a.m., Thursday, May 2, 2019.

PLACE: The Richard V. Backley Hearing Room, Room 511N, 1331 Pennsylvania Avenue NW, Washington, DC 20004 (enter from F Street entrance).

STATUS: Open.

MATTERS TO BE CONSIDERED: The Commission will consider and act upon the following in open session: Secretary of Labor v. Sims Crane, Inc., Docket No. SE 2016-81. (Issues include whether the Judge erred in upholding a citation alleging that a miner had not used fall protection when required.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD. Relay/1-800-877-8339 for toll free.

PHONE NUMBER FOR LISTENING TO MEETING: 1 (866) 867-4769. Passcode: 678-100

Michael J. Cole,
Attorney Advisor.

[FR Doc. 2019-08059 Filed 4-17-19; 4:15 pm]

BILLING CODE 6735-01-P